FEDERAL COMMUNICATIONS COMMISSION

[FR ID 119419]

Open Commission Meeting Wednesday, December 21, 2022

December 15, 2022.

The Federal Communications Commission will hold an Open Meeting on the subjects listed below on Wednesday, December 21, 2022, which is scheduled to commence at 10:30 a.m. in the Commission Meeting Room of the Federal Communications Commission, 45 L Street NE, Washington, DC. While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: Implementing the Infrastructure Investment and Jobs Act: Prevention and Elimination of Digital Discrimination (GN Docket No. 22-69). Summary: The Commission will consider a Notice of Proposed Rulemaking that would take the next step in the Commission's efforts to promote equal access to broadband by seeking comment on potential rules to address digital discrimination of access to broadband, consistent with Congress's direction in the Infrastructure Investment and Jobs Act.
2 | International | Title: Expediting Initial Processing of Satellite and Earth Station Applications (IB Docket No. 22-411); Space Innovation (IB Docket No. 22-271). Summary: The Commission will consider a Notice of Proposed Rulemaking seeking comment on changes to its rules, policies, or practices to facilitate the acceptance for filing of satellite and earth station applications under Part 25 to help Commission processing stay apace with the number of innovative satellite applications in the new space age.
3 | Public Safety & Homeland Security | Title: Location-Based Routing for Wireless 911 Calls (PS Docket No. 18-64). Summary: The Commission will consider a Notice of Proposed Rulemaking regarding a proposal to require wireless carriers and covered text providers to implement location-based routing on their networks in order to reduce misrouting of wireless 911 calls and texts and improve emergency response times.
4 | Consumer & Governmental Affairs | Title: Internet Protocol Captioned Telephone Service Compensation (CG Docket No. 22-408); Telecommunications Relay Services and Speech-to-Speech Services for Individuals with Hearing and Speech Disabilities (CG Docket No. 03-123); Misuse of Internet Protocol (IP) Captioned Telephone Service (CG Docket No. 13-24). Summary: The Commission will consider a Notice of Proposed Rulemaking and Order on Reconsideration to propose Telecommunications Relay Services (TRS) Fund compensation for Internet Protocol Captioned Telephone Service (IP CTS), propose a technical amendment to the compensation formula for Internet Protocol Relay Service (IP Relay), and resolve petitions for reconsideration of a prior order setting IP CTS compensation.
5 | Enforcement | Title: Enforcement Bureau Action. Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2022-27672 Filed 12-20-22; 8:45 am]

BILLING CODE 6712-01-P